FEDERAL COMMUNICATIONS COMMISSION

[MD Docket No. 20-270; FR ID 79350]

Schedule of Application Fees of the Commission's Rules

AGENCY: Federal Communications Commission.

ACTION: Notice.

SUMMARY: The Commission announces new application fee rates for the Wireless Telecommunications Bureau. These application fee rates were adopted and released in a Commission rulemaking on December 29, 2020.

DATES: New application fee rates will be updated on April 19, 2022.

FOR FURTHER INFORMATION CONTACT: Roland Helvajian, Office of Managing Director at (202) 418-0444.

SUPPLEMENTARY INFORMATION: The Commission adopted new application fee rates in a Report and Order, FCC 20-184, MD Docket No. 20-270, adopted on December 23, 2020, released on December 29, 2020, and published in the Federal Register on March 19, 2021 (86 FR 15026, March 19, 2021). This document provides notice that new application fee rates will become updated on April 19, 2022 for the Wireless Telecommunications Bureau.

DA 22-307

Released: March 23, 2022

Effective Date of New Application Fee Rates for the Wireless Telecommunications Bureau

MD Docket No. 20-270

On December 23, 2020, the Commission adopted a Report and Order implementing a new application fee schedule which significantly updated the Commission's previous fee schedule.¹ As indicated in the 2020 Application Fee Report and Order, the new application fee rates will become effective when the Commission's “information technology systems and internal procedures have been updated, and the Commission publishes notice(s) in the Federal Register announcing the effective date of such rules.” ² On July 6, 2021, the Commission announced the new application fee rates for the Office of Engineering and Technology and the Media Bureau would become effective on July 15, 2021,³ and on December 15, 2021, the Commission announced the new application fee rates for the Wireline Competition Bureau, the Enforcement Bureau, the International Bureau, and CALEA Petitions would become effective on December 15, 2021.⁴ This Public Notice announces that the new application fee rates for the Wireless Telecommunications Bureau, codified at 47 CFR 1.1102, will become effective on April 19, 2022.⁵ Wireless application fees can be paid through the Commission's Universal Licensing System (ULS) at https://www.fcc.gov/wireless/universal-licensing-system.⁶

¹ See Amendment of the Schedule of Application Fees Set Forth in Sections 1.1102 through 1.1109 of the Commission's Rules, MD Docket No. 20-270, Report and Order, 35 FCC Rcd 15089 (2020) (2020 Application Fee Report and Order). Pursuant to section 8(b)(1) of the Communications Act of 1934, as amended, the Commission is required to review the application fee schedule in every even-numbered year, adjust the fees to reflect increases or decreases in the Consumer Price Index, and round to the nearest $5 increment. See 47 U.S.C. 158(b)(1). In addition to the adjustments required by subsection (b), the Commission shall also, by rule, amend the schedule of application fees established if the Commission determines that the schedule requires amendment so that: (1) Such fees reflect increases or decreases in the costs of processing applications at the Commission or (2) such schedule reflects the consolidation or addition of new categories of applications. See 47 U.S.C. 158(c).

² 2020 Application Fee Report and Order at 15155, paragraph 201.

³ See Effective Date of New Application Fees for the Office of Engineering and Technology and the Media Bureau, MD Docket No. 20-270, Public Notice, DA 21-747 (OMD 2021).

⁴ See Effective Date of New Application Fees for the Enforcement Bureau, the Wireline Competition Bureau, and the International Bureau, MD Docket No. 20-270, Public Notice, DA 21-1496 (OMD 2021). Note that, on December 15, 2021, the Commission decommissioned and permanently discontinued its in-house online electronic payment system known as Fee Filer and replaced it with a new payment module contained in the Commission's Registration System (CORES). See FCC Announces Decommissioning of Fee Filer as Method of Payment and Replacement with New Payment Module within CORES and Decommissioning of the Commission's Red Light Display System and Replacement with a New Module within CORES, Public Notice (Dec. 1, 2021).

⁵ 47 CFR 1.1102.

For further guidance regarding Wireless Telecommunications Bureau application fees, please refer to the Wireless Telecommunications Bureau Fee Filing Guide located at https://www.fcc.gov/licensing-databases/fees/application-processing-fees. For further information regarding this Public Notice, please contact Roland Helvajian, Program Analyst, Financial Operations, Office of the Managing Director, Roland.Helvajian@fcc.gov.

Marlene Dortch,
Secretary.

[FR Doc. 2022-06801 Filed 3-30-22; 8:45 am]

BILLING CODE 6712-01-P